DEPARTMENT OF TRANSPORTATION

Office of the Secretary

[Docket OST-1996-1657]

Application of Alaska Central Express, Inc., for Reissuance of Certificate Authority

AGENCY: Department of Transportation.

ACTION: Notice of order to show cause (Order 2007-3-25).

SUMMARY: The Department of Transportation is directing all interested persons to show cause why it should not issue an order finding Alaska Central Express, Inc., fit, willing, and able, and awarding it a certificate of public convenience and necessity to engage in interstate air transportation of persons, property and mail.

DATES: Persons wishing to file objections should do so no later than April 13, 2007.

ADDRESSES: Objections and answers to objections should be filed in Docket OST-1996-1657, and addressed to U.S. Department of Transportation, Docket Operations (M-30, Room PL-401), 400 Seventh Street, SW., Washington, DC 20590, and should be served upon the parties listed in Attachment A to the order.

FOR FURTHER INFORMATION CONTACT: Ronâle Taylor, Air Carrier Fitness Division (X-56, Room 6401), U.S. Department of Transportation, 400 Seventh Street, SW., Washington, DC 20590, (202) 366-9721.

Dated: March 30, 2007.
Andrew B. Steinberg,
Assistant Secretary for Aviation and International Affairs.

[FR Doc. E7-6351 Filed 4-4-07; 8:45 am]

BILLING CODE 4910-9X-P